DEPARTMENT OF THE TREASURY

Draft Strategic Plan for FY 2010-2015

AGENCY: United States Department of the Treasury.

ACTION: Notice: Request for comments.

SUMMARY: This notice announces that the United States Department of the Treasury draft strategic plan for fiscal years 2010-2015 is available for public review and comment. The Government Performance and Results Act of 1993 (GPRA) requires Federal agencies to establish a strategic plan covering not less than five years, and to solicit the views and suggestions of those entities potentially affected by or interested in the plan. The plan identifies the Department's vision, mission, goals, outcomes, strategies, measures and priorities of the administration. The Treasury Department's current plan (fiscal years 2007-2012) may be viewed on the Treasury Web site at http://www.treas.gov/offices/management/budget/strategic-plan/2007-2012/strategic-plan2007-2012.pdf. The revised fiscal year 2010-2015 plan may be viewed at http://www.ustreas.gov/offices/management/budget/strategic-plan/.

DATES: Written comments are requested by close of business on August 13, 2010.

ADDRESSES: Written comments should be sent by electronic mail message over the Internet addressed to http://www.ustreas.gov/offices/management/budget/strategic-plan/ and by clicking on the comment link. Comments may also be submitted by mail addressed to the Treasury Department. Please see the supplementary information below. Although comments may be submitted by mail, submission via e-mail to the above address is preferable. The written comments will be available for public inspection at the address shown in the supplementary information, and will be available via the Treasury Internet Web site (address: http://www.treas.gov). Because comments will be made available for public inspection, information that is not desired to be made public, such as an address or phone number or other personally identifiable information, should not be included.

FOR FURTHER INFORMATION CONTACT: Maylin Jue, United States Department of the Treasury, by telephone at 202-622-6697.

SUPPLEMENTARY INFORMATION: The Government Performance and Results Act requires Federal agencies to establish a strategic plan covering not less than a five-year period, and to solicit the views and suggestions of those entities potentially affected by or interested in the plan. This notice is to alert the Treasury Department's stakeholders and the public as to how they can provide input on the draft strategic plan. The draft strategic plan for fiscal years 2010- 2015 is available on the Treasury Web site at http://www.treas.gov. Written comments may be sent to:

The Department of the Treasury, Metropolitan Square Building, Room 6B301, 655 15th Street, Washington, DC 20220, Attention: Maylin Jue.

The Treasury Department would like to receive input from a wide range of organizations (both national and international), public bodies, and other stakeholders. The Department of the Treasury anticipates posting the final strategic plan for FY 2010-2015 on our Web site by the end of fiscal year 2010.

Dated: July 30, 2010.
Martin R. Melone,
Director, Strategic Planning and Performance Management, United States Department of the Treasury.

[FR Doc. 2010-19192 Filed 8-4-10; 8:45 am]

BILLING CODE 4810-25-P